DEPARTMENT OF HEALTH AND HUMAN SERVICES

Office of Inspector General

Program Exclusions: December 2004

AGENCY: Office of Inspector General, HHS.

ACTION: Notice of program exclusions.

During the month of December 2004, the HHS Office of Inspector General imposed exclusions in the cases set forth below. When an exclusions is imposed, no program payment is made to anyone for any items or services(other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject, city, state | Effective date
PROGRAM-RELATED CONVICTIONS
LOCCISANO, GINA MARIA | 8/20/2003
CRANSTON, RI
MCGOVERN, DANA E | 8/20/2003
PORT CHARLOTTE, FL
MCGOVERN'S AMBULANCE SERVICE, INC | 8/20/2003
PORT CHARLOTTE, FL
OKOYE, PATRICK C | 8/20/2003
MONTGOMERY, AL
OKOYE, GODWIN S | 8/20/2003
MONTGOMERY, AL
CAPOBIANCO, LEO J | 8/20/2003
LAS VEGAS, NV
KHALATOV, LEONID | 8/20/2003
WOODMERE, NY
DOOLEY, MICHAEL F | 8/20/2003
CARTHAGE, NY
GRIM THIRTY-THREE, INC | 8/20/2003
SMITHTOWN, NY
GRIMALDI, JOHN | 8/20/2003
LAKE GEORGE, NY
JDS AMBULANCE CORP | 8/20/2003
WOODMERE, NY
MURPHY JR, JAMES E | 8/20/2003
NIVERVILLE, NY
ABRAMS, BARRY | 8/20/2003
FLUSHING, NY
SABOT, THEODORE J | 8/20/2003
PITTSFIELD, MA
HOUCHINS, EDNALEE | 8/20/2003
S CHARLESTON, WV
BELLAMY, MARY ELIZABETH | 8/20/2003
ALDERSON, WV
RANCOCAS VALLEY ANESTHESIA ASSOCIATES | 11/14/2002
CINNAMINSON, NJ
SHEARL, COWAN W | 8/20/2003
VENICE, FL
HORTON, ANTHONY H | 8/20/2003
MAULDING, SC
VIGOREAUX, ALEJANDRO | 8/20/2003
MIAMI, FL
RUIZ, ROBERTO | 8/20/2003
MIAMI, FL
SMITH, KAREN L | 8/20/2003
MIAMI, FL
SUBER, RAMONA | 8/20/2003
JENKINSVILLE, SC
JONES, KESHEA T | 8/20/2003
JACKSON, TN
HORTON, SAMMIE | 8/20/2003
GRENADA, MS
GILMORE, RENEE LYNN | 8/20/2003
COLEMAN, FL
KWANGWARI, NGONI CHRISTOPHER | 8/20/2003
MIAMI, FL
PIPERIS, STELIOS | 8/20/2003
MIAMI, FL
LIPTON, ROSS HOWARD | 8/20/2003
MIAMI SHORES, FL
MENDEZ, EDUARDO S | 8/20/2003
MIAMI, FL
HERNANDEZ, JOSE R | 8/20/2003
MIAMI, FL
TURNER, LISA | 8/20/2003
ENTERPRISE, MS
OGUNDIYA, DEJI | 8/20/2003
HERMITAGE, TN
MAKINS, KATETINE C | 8/20/2003
LAURENS, SC
BUCKMON, NATASHA | 8/20/2003
COLUMBIA, SC
WILLIAMS, JULIUS III | 8/20/2003
STONE MOUNTAIN, GA
ALLEN, JACK W | 8/20/2003
ESTILL, SC
REDLICH, DALE PALMER | 8/20/2003
CORAL SPRINGS, FL
HAUGHT, BARRY D | 8/20/2003
EGLIN AFB, FL
NESPECA, THOMAS W | 8/20/2003
TAMPA, FL
STURSBURG, CHRISTOPHER C | 8/20/2003
VALRICO, FL
DAVID M MOSS, DPM, P C | 8/20/2003
GARDEN CITY, MI
JACKSON, WAYNE D | 8/20/2003
DETROIT, MI
PARKER, KENNETH R | 8/20/2003
AKRON, OH
MILLER, SUSAN M | 8/20/2003
ELKHART, IL
WELDY, DENNIS K | 8/20/2003
BRISTOL, IN
DEVORE, MARLA A | 8/20/2003
SPRINGFIELD, IL
MLODZIK, MARY BETH | 8/20/2003
PRINCETON, WI
HERMANN, RACHEL | 8/20/2003
TROY, OH
BLACK, DOMINICA C | 8/20/2003
COLUMBUS, OH
SMITH, CALVERT H JR | 8/20/2003
CINCINNATI, OH
EBERT, HEATHER R | 8/20/2003
MOUNT GILEAD, OH
PROPELLED THERAPEUTIC SERVICES | 8/20/2003
DETROIT, MI
COMPREHENSIVE OUTPATIENT SVCS | 8/20/2003
CLEVELAND, OH
GALLO, ANGELO M | 8/20/2003
WILOUGHBY, OH
GALLO, MARK A | 8/20/2003
GRAFTON, OH
MITRIONE, ROBERT T | 8/20/2003
YANKTON, SD
HENDERSON, MARTISA B | 8/20/2003
RAYVILLE, LA
PHILLIPS, RAYMOND RENE | 8/20/2003
JONESBORO, LA
BILLINGS, ARTHUR N | 8/20/2003
MISSOURI, TX
DANIEL, KRISTINA LEA | 8/20/2003
FORT LUPTON, CO
DRAKE, SHERMAN HOWARD | 8/20/2003
CASPER, WY
FLUEGEL, ERIC MICHAEL | 8/20/2003
AURORA, CO
DUPONT, ROBERT JOSEPH JR | 8/20/2003
LEAVENWORTH, KS
GARWOOD, JAN DIERKS | 8/20/2003
YANKTON, SD
HOUSEHOLDER, KARL OTIS | 8/20/2003
LEAVENWORTH, KS
LIVEOAK, KELLEY ANNE | 8/20/2003
GREENVILLE, IL
DINKMEIER, LOU ANN | 8/20/2003
LAMAR, MO
BAZAZZADEGAN, JULIA ELAINE | 8/20/2003
FORTH WORTH, TX
WIMBLEY, MARY E | 8/20/2003
ST LOUIS, MO
STEPANYAN, ARTHUR | 8/20/2003
STUDIO CITY, CA
DANIELS, KAREN ANN | 8/20/2003
SACRAMENTO, CA
STEPANIAN, ASMIK | 8/20/2003
VAN NUYS, CA
CANCIO, MENELEO COMETA | 8/20/2003
LOMPOC, CA
CANCIO, RAUL COMETA | 8/20/2003
ELOY, AZ
MIKAYELYAN, RAFIK | 8/20/2003
TERMINAL ISLAND, CA
URFALIAN, SARKIS | 8/20/2003
ALTADENA, CA
GOTTLIEB, JEFFREY | 8/20/2003
FLORENCE, AZ
BERKOVICH, LORA | 8/20/2003
LONG BEACH, CA
YENGIBARYAN, SARKIS | 8/20/2003
ELOY, CA
KANIADAKIS, STEVEN J | 8/20/2003
PENSACOLA, FL
PENNIMAN, VERNANELL GIBSON | 8/20/2003
AZUZA, CA
WHITE, VANCE KING | 8/20/2003
LOS ANGELES, CA
TAYLOR, GARY W | 8/20/2003
LOS ANGELES, CA
KIOUTOUIAN, AMBARTSOUM | 8/20/2003
HOLLYWOOD, CA
CHEM, PHALLA | 8/20/2003
LONG BEACH, CA
LEWANDOWSKI, REBECCA LYNN | 5/2/2003
KLAMATH FALLS, OR
BASSEY, KRISTINE A | 5/20/2003
ANAHEIM, CA
LOPEZ, MYRNA RAMOS | 8/20/2003
CHOWCHILLA, CA
LOPEZ, BENJAMIN PINEDA | 8/20/2003
SOLEDAD, CA
LEWANDOWSKI, JENNIFER ANN | 8/20/2003
LONG BEACH, CA
NDEMBA, JACKSON NTONE | 8/20/2003
LOS ANGELES, CA
JOHNSON, WILLIE LEE | 8/20/2003
RIVERSIDE, CA
AHMED, SAEED | 8/20/2003
WASCO STATE PRISON, CA
AHMED, BILAL | 8/20/2003
WASCO, CA
GABRIEL, GABRIEL | 8/20/2003
LA PUENTE, CA
FARZAD, PHILIP | 8/20/2003
ENCINO, CA
CHELZINGER, MICHA | 8/20/2003
TARZANA, CA
KOPILEVICH, MIKHAIL | 8/20/2003
WOODLAND HILLS, CA
TSATOUROVA, INGA | 8/20/2003
DUBLIN, CA
FELONY CONVICTION FOR HEALTH CARE FRAUD
ORLANDER, ANDREW | 8/20/2003
EGLIN AFB, FL
DESIMONE, ERIK DAVID | 8/20/2003
TUCKER, GA
MINARCIK, JOHN ROBERT | 8/20/2003
SKOKIE, FL
SILVESTRO, CAROLINE L | 8/20/2003
MENTOR, OH
LEON, FRANK A JR | 8/20/2003
LORAIN, OH
NIELSEN, KATHERINE MARIE | 8/20/2003
LA JUNTA, CO
BROWN, GLENN CECIL | 8/20/2003
ALPINE, UT
KLINK, LORETTA LEE | 8/20/2003
AUBURN, CA
FELONY CONTROL SUBSTANCE CONVICTION
GARLAND, TAMI A | 8/20/2003
DANBURY, CT
NICHOLSON, LISA F | 8/20/2003
PENSACOLA, FL
SPROUL, MELANIE LAREE | 8/20/2003
MARIANNA, FL
KEY, REBECCA LYNN | 8/20/2003
ANDERSON, SC
MATTERA, DIANNA LYNN | 8/20/2003
TALLAHASSEE, FL
JONES, NINA J | 8/20/2003
SPARTA, TN
LOWE, WANDA KAY | 8/20/2003
PLEASANT VIEW, TN
KING, VICKY M | 8/20/2003
MOORESBURG, TN
IMHOFF, PATRICIA SUZANNE | 8/20/2003
PHOENIX, AZ
ERB, CHRISTOPHER JOHN | 8/20/2003
W PALM BEACH, FL
DANIELS, KIM | 8/20/2003
TAZEWELL, TN
MYERS, LISA CHERYL | 8/20/2003
LITHONIA, GA
SCHEIDLER, JOSEPH STANLEY | 8/20/2003
HAMITON, OH
TOMKO, JOHN R | 8/20/2003
HUBBARD, OH
MOLIERE-COSSE, REACHENELLE | 8/20/2003
MARRERO, LA
LITTELL, SANDRA JANE | 8/20/2003
HOUSTON, TX
HOUSTON, DONALD | 8/20/2003
SALT LAKE CITY, UT
CLISE, RICHARD KEITH | 8/20/2003
FORT MORGAN, CO
EVANS, ERIC ALLEN | 8/20/2003
SALT LAKE CITY, UT
BOYETTE, CARL JEFFREY | 8/20/2003
CHICO, CA
PATIENT ABUSE/NEGLECT CONVICTIONS
VASILIU, VASILIOS | 8/20/2003
GLEN HEAD, NY
BRICE, MARK D | 8/20/2003
TONAWANDA, NY
CAULFIELD, SHARON A | 8/20/2003
BALLSTON LAKE, NY
RENDON, JAIRO | 8/20/2003
MALONE, NY
CORREA, JOHANNA | 8/20/2003
ROCHESTER, NY
GUZMAN, RUDLES FRANCIS | 8/20/2003
BROOKLYN, NY
HYKES, LISA | 8/20/2003
OKOLONA, MS
CORNELIUS, CYNTHIA | 8/20/2003
JACKSON, MS
CALDWELL, JOHNNIE M | 8/20/2003
NEWBERRY, SC
JIMENEZ, HENRY | 8/20/2003
ORLANDO, FL
ST JOHN, SHARON A | 8/20/2003
CLIFTON, CO
GILL, RODNEY P | 8/20/2003
AKRON, OH
BENOIT, LEAKISHA RENEE | 8/20/2003
LAFAYETTE, LA
PANOSKE, JASON B | 8/20/2003
OKEMAH, OK
MARSHALL, VICTORIA K | 8/20/2003
DEL CITY, OK
PHILLIPS, DARREN WAYNE | 8/20/2003
PINEVILLE, LA
MILEA, ADRIAN VALERIU | 8/20/2003
SALT LAKE CITY, UT
COY, HEATHER RENEE | 8/20/2003
RYE, CO
FRENCH, LYLE REID | 8/20/2003
LOUISVILLE, CO
WILLARD, KARL TERRELL | 8/20/2003
BOWLING GREEN, MO
LANDRENEAU, MICHAEL DOUGLAS | 8/20/2003
ST JOSEPH, MO
VINZANT, ROBIN RENEE | 8/20/2003
MITCHELLVILLE, IA
CASTILLO, JULIO CESAR | 8/20/2003
KENT, WA
NEAULT, CHARLES CAREY | 8/20/2003
TEMECULA, CA
HUSSAIN, SHEILA KAY | 8/20/2003
KINGMAN, AZ
HUSSAIN, RASHIDA KHATTOON | 8/20/2003
KINGMAN, AZ
GOODMAN, REBECCA KAYE | 8/20/2003
N LAS VEGAS, NV
SMITH, DOLORES | 8/20/2003
PHOENIX, AZ
CONVICTION FOR HEALTH CARE FRAUD
FREDE, MICHAEL DENNIS | 8/20/2003
HAZELWOOD, MO
CONVICTION—OBSTRUCTION OF AN INVESTIGATION
NAHAS, FREDERICK J | 8/20/2003
LONGPORT, NJ
CONTROLLED SUBSTANCE CONVICTIONS
COMITO, LEE ANN | 8/20/2003
UTICA, NY
GARZA, PAMELA IRENE | 8/20/2003
CROW AGENCY, MT
LICENSE REVOCATION/SUSPENSION/SURRENDERED
SULLIVAN, COLLEEN A | 8/20/2003
SAUGUS, MA
TIMONS, JODIE LYNN | 8/20/2003
BROOKFIELD, MA
CLAIRE, KELLY | 8/20/2003
RUTLAND, MA
GREEN, JOYCE D | 8/20/2003
WOODBINE, NJ
MCINTYRE, JOHN G JR | 8/20/2003
RARITAN, NJ
DIFASI, LINDA C | 8/20/2003
SYRACUSE, NY
PIERRE, LOVELY JEUDY | 8/20/2003
QUEENS VILLAGE, NY
HARRIS-POOLE, IRENE | 8/20/2003
VOORHEES, NJ
LAWLER, PAUL J | 8/20/2003
ALTAMONT, NY
DUTTON, JIMMY LEE | 8/20/2003
MT VERNON, NY
MCCLERNON, JUNE LAW | 8/20/2003
YARDLEY, PA
KASSELL, ELEANOR A | 8/20/2003
BADEN, PA
ALBRECHT, FRANK M | 8/20/2003
EASTON, MD
DEPTULA, RICHARD | 8/20/2003
ELLICOTT CITY, MD
GRAFFUM, ANN E | 8/20/2003
RICHMOND, VA
WHITLOCK, AIMEE D | 8/20/2003
CHARLESTON, WV
YOUNG, DENISE | 8/20/2003
WILLIAMSPORT, PA
RUSSELL, JANET MARIE | 8/20/2003
CHINCHILLA, PA
HAMMOND, DEBORAH | 8/20/2003
HOLLIDAYSBURG, PA
DONOVAN, KEITH R | 8/20/2003
ADELPHI, MD
CANTRELL, PATRICIA A | 8/20/2003
INMAN, SC
WEEKS, WILLIAM W | 8/20/2003
WINTER HAVEN, FL
MCQUAIG, JAMES EDWARD | 8/20/2003
ST AUGUSTINE, FL
MURPHY, LONNIE | 8/20/2003
MIAMI, FL
SCOTT, ERICA L | 8/20/2003
JACKSON, MS
GUIDRY, KAREN MARY | 8/20/2003
ARCADIA, FL
HUMPHREYS, JANIE F | 8/20/2003
PEARL, MS
POSEY, LISA | 8/20/2003
TERRY, MS
STOKES, JOSEPH MICHAEL | 8/20/2003
GREENWOOD, MS
DAWSON, TRACIE LYNN | 8/20/2003
BIRMINGHAM, AL
LONIE, PAULA R | 8/20/2003
LYLES, TN
QUALLS, MIA L | 8/20/2003
SAVANNAH, TN
WALKER, TAMMY | 8/20/2003
NASHVILLE, TN
BOWEN, VICKIE | 8/20/2003
COLLINS, MS
WALKER, THOMAS A | 8/20/2003
MERIDIAN, MS
BURNS, JACKIE A | 8/20/2003
RIDGELAND, MS
PERDOMO, ONELIO E | 8/20/2003
GADSDEN, AL
CHEATHAM, SHERYLE D | 8/20/2003
SHAWNEE, TN
BUTLER, MISTI D | 8/20/2003
OAK RIDGE, TN
BOONE, RONALD C | 8/20/2003
HERMITAGE, TN
BOONE, LISA | 8/20/2003
GALLATIN, TN
O'BRIAN, MELODYE A | 8/20/2003
LANTANA, FL
BELVILLE-COATES, SARAH | 8/20/2003
BRANDON, FL
HILDRETH, HOLLY ANNE | 8/20/2003
HIGH SPRINGS, FL
RANKINE, CORAL ELONZ | 8/20/2003
FLAGLER BEACH, FL
RUNDELL, JENNIFER FAITH | 8/20/2003
OCALA, FL
WILLIAMS, KIMBERLY SUSAN | 8/20/2003
LANTANA, FL
GRIFFIN, MARJORIE | 8/20/2003
LAKELAND, FL
LUND, PHYLLIS LOOBY | 8/20/2003
KEY WEST, FL
MOULTON, LAURIE ABBY | 8/20/2003
NAPLES, FL
FREED, CHRYSTAL | 8/20/2003
FT MYERS, FL
FITZGERALD, DONNA GIBSON | 8/20/2003
ESTERO, FL
O'DONNELL, CAROL JANET | 8/20/2003
PORT ORANGE, FL
ONIEAL, JENNIFER I | 8/20/2003
BRANDON, FL
SRINIVASAN, GOVIND | 8/20/2003
DELTONA, FL
PHILLIPS, JAMES WINSTON | 8/20/2003
BOYNTON BEACH, FL
MADRIGAL, JAYMA M | 8/20/2003
MORRISTOWN, TN
MILLER, KIMBERLY M | 8/20/2003
KINGSPORT, TN
HALL, DIXIELEE L | 8/20/2003
VERO BEACH, FL
GIOVINO, LAURA GLASSGOW | 8/20/2003
DUNEDIN, FL
HINTZ, GIGI T | 8/20/2003
CLEARWATER, FL
JACKSON, MARGARET | 8/20/2003
PUNTA GORDA, FL
WARREN, STEPHANIE | 8/20/2003
CENTERVILLE, TN
PENCE, CRETIA | 8/20/2003
BRADYVILLE, TN
CRISPIN, JEANETTE | 8/20/2003
CAUTIER, MS
DOYLE, KAY S | 8/20/2003
VICKSBURG, MS
GALIPAULT, JANE | 8/20/2003
LAKELAND, FL
DUNCAN, THOMASA JOYCE | 8/20/2003
FROSTPROOF, FL
DONALDSON, DORA ELISA | 8/20/2003
CHULUOTA, FL
BELAGA, NATALIE ELIZABETH | 8/20/2003
UNIVERSITY PARK, FL
BRANT, PATRICIA JO | 8/20/2003
PENSACOLA, FL
CITERA-DOWLER, FRANCINE | 8/20/2003
HOLLYWOOD, FL
COOK, DONALD CLARENCE | 8/20/2003
GREEN ACRES, FL
TINDLE, LISA A | 8/20/2003
RALEIGH, NC
WISNEWSKI-JONES, TINA | 8/20/2003
WEST MELBOURNE, FL
MILBUT, DEBORAH LYNNE | 8/20/2003
BOCA RATON, FL
FORD-HAYES, CHRISTOPHER E | 8/20/2003
ORLANDO, FL
ROSS, CORNELIA R | 8/20/2003
NASHVILLE, TN
FEAZELL, CHRISTOPHER A | 8/20/2003
COOKEVILLE, TN
STALLINGS, MARCELLA | 8/20/2003
COOKEVILLE, TN
MORTON, AILEEN | 8/20/2003
ALCOA, TN
MCLAUGHLIN, GINGER C | 8/20/2003
HENDERSONVILLE, TN
PADAWER, JAN E | 8/20/2003
MEMPHIS, TN
RICHARDSON, GILBERT A | 8/20/2003
DEFUNIAK SPRINGS, FL
WELLS, JUDY E MUNCIE | 8/20/2003
WINCHESTER, KY
JOHNSON, STACEY MARIE CAVOTE | 8/20/2003
THE PLAINS, OH
BILLINGSLEY, RENEE | 8/20/2003
PRATTVILLE, AL
MALCOMB, SHEILA REBECCA HOLLAND | 8/20/2003
TRUSSVILLE, AL
BLAKENEY, SHERRY JEAN MCMANUS | 8/20/2003
SWEETWATER, AL
ESTOK, MARY | 8/20/2003
SPRING HILL, FL
ARANDIA, RODRIGO S | 8/20/2003
CHICAGO, IL
SMITH, DANNELLY C | 8/20/2003
WYANDOTTE, MI
SONE, JANET LEE | 8/20/2003
PORTAGE, IN
KAY, WILLIAM EZRA | 8/20/2003
PEPPER PIKE, OH
LINNEMANN, BRUCE MICHAEL | 8/20/2003
CINCINNATI, OH
CUSMA, JOSEPH A | 8/20/2003
MASSILLON, OH
WOJCIK, DAVID G | 8/20/2003
ELGIN, IL
VEACH, CAROLINE S | 8/20/2003
OAKLAND, IL
STEELE, JACQUELINE E | 8/20/2003
CHICAGO, IL
SEARS, JENNIFER L | 8/20/2003
CHAMPAIGN, IL
BLACKMOND, ANTONIO | 8/20/2003
CHICAGO, IL
BARRON, JOEL | 8/20/2003
GLENDALE, AZ
BROWN, LAKISHA ANTONETTE | 8/20/2003
CHAMPAIGN, IL
ANDERSON, TISHA L | 8/20/2003
ROCKFORD, IL
AALDERS, NANCY BLOCK | 8/20/2003
OAK LAWN, IL
DAVIDSON, MYSTI D | 8/20/2003
ROAMOKE, TX
JONES, KAREN DENISE | 8/20/2003
MARRERO, LA
WOOD, LISA KATHLEEN ADAIR | 8/20/2003
LITTLE ROCK, AR
HEBERT, DAPHNE BROOK | 8/20/2003
KAPLAN, LA
CHANDLER, MARY KATHERINE | 8/20/2003
SHREVEPORT, LA
JONES, LESLIE ADELE | 8/20/2003
METAIRIE, LA
DOWNS, DORIS IRENE | 8/20/2003
MARTHAVILLE, LA
HART, DILLIS LEROY | 8/20/2003
BOISE CITY, OK
SNYDER, GARY LEE | 8/20/2003
LITTLETON, CO
SKUZA, RICHARD S | 8/20/2003
COLORADO SPRNGS, CO
NOIPERMPOON, SAMAPORN | 8/20/2003
AURORA, CO
KING, ROCHELLE SHAVON | 8/20/2003
TOPEKA, KS
WAMBEKE, FLORENCE | 8/20/2003
RAPID CITY, SD
REILLY, SETH | 8/20/2003
THERMOPOLIS, WY
ROSE, LINDA | 8/20/2003
MEETEETSE, WY
THORNTON, MICHAEL KENT | 8/20/2003
ST PETERS, MO
ELLIS, BRIAN J | 8/20/2003
SPRINGFIELD, MO
VILLARREAL, REINALDA R | 8/20/2003
COLLBRAN, CO
MOORE, STACI L | 8/20/2003
PLEASANT HILL, MO
CURL, DENISE M | 8/20/2003
DUBUQUE, IA
KING, TERESSA A | 8/20/2003
YREKA, CA
DU, JOHN ZHENG | 8/20/2003
SACRAMENTO, CA
BODY CARE CENTER, CLINIC | 8/20/2003
COSTA MESA, CA
LACY, KAREN N | 8/20/2003
PASADENA, CA
FREED, STEPHEN W | 8/20/2003
IDAHO FALLS, ID
WISE, LESLIE EUGENE | 8/20/2003
NEWPORT BEACH, CA
MASLANA, JOANNE ELIZABETH | 8/20/2003
TUCSON, AZ
PETERS, KATHERINE | 8/20/2003
ESCONDIDO, CA
MCGEE-JONES, BARBARA DALE | 8/20/2003
DEL MAR, CA
JESSE, ROSALIE C | 8/20/2003
EL CAJON, CA
WEAVER, DEANNA E | 8/20/2003
TUCSON, AZ
DOYLE, WENDY ANN | 8/20/2003
LA CRESCENTA, CA
SCHAVE, BARBARA | 8/20/2003
BEVERLY HILLS, CA
ARIAS, KERRY LYNN | 8/20/2003
TUCSON, AZ
HIMALAYA, JOLYN | 8/20/2003
RANCHO PALOS VERDES, CA
FRAUD/KICKBACKS/PROHIBITED ACTS/SETTLEMENT AGREEMENTS
WEINSTEIN, LEONARD | 5/29/2003
MONROE TWP, NJ
OWNED/CONTROLLED BY CONVICTED ENTITIES
BGF TRANSPORTATION, INC | 8/20/2003
BROOKLYN, NY
M & D FAMILY PHARMACY, INC | 8/20/2003
REGO PARK, NY
KENDALL BEHAVIORAL HEALTHCARE CTR, INC | 8/20/2003
COLEMAN, FL
KENDALL PHYSICAL THERAPHY CTR, INC | 8/20/2003
MIAMI, FL
CHUCK'S SUPER RITE DRUGS, INC | 8/20/2003
ATLANTA, GA
BEHAVIORAL HEALTH PROVIDERS | 8/20/2003
ESTILL, SC
ARLINGTON HOUSE, INC | 8/20/2003
ESTILL, SC
WEST MIAMI MEDICAL SUPPLY, INC | 8/20/2003
TALLAHASSEE, FL
READY MEDICAL EQUIPMENT CORP | 8/20/2003
TALLAHASSEE, FL
SUNSHINE MEDICAL ENTERPRISE GROUP, INC | 8/20/2003
MIAMI, FL
ADVANCED FAMILY DENTAL CARE | 8/20/2003
IDAHO FALLS, ID
HEALTH PRO MEDICAL LABS | 8/20/2003
LA HABRA, CA
JOSEPH E COBBS CHIROPRATCIC | 8/20/2003
SAN DIEGO, CA
CHIRO ACU CENTER | 8/20/2003
GARDEN GROVE, CA
DEFAULT ON HEAL LOAN
CLARK, FREEMAN L | 5/16/2003
EGLIN AFB, FL
BOWERS, JOHN BENJAMIN | 8/20/2003
HAYSVILLE, KS
DAVIS, GEORGIA A | 6/12/2003
RANDALLSTOWN, MD
MARK, JEFFREY | 7/16/2003
PORTLAND, OR
DOYLE, TIMOTHY P | 7/22/2003
BELLEVUE, WA
STRONG-FIELDS, MICHELLE A | 6/23/2003
PHILADELPHIA, PA

Dated: January 6, 2005.
Katherine B. Petrowski,
Director, Exclusion Staff, Office of Inspector General.

[FR Doc. 05-1066 Filed 1-19-05; 8:45 am]

BILLING CODE 4150-04-P